DEPARTMENT OF COMMERCE

National Oceanic and Atmospheric Administration

NOAA Climate and Global Change Program, Program Announcement; Global Carbon Cycle Element, FY 2002; Correction

AGENCY: Office of Global Programs, National Oceanic and Atmospheric Administration, Department of Commerce.

ACTION: Notice; correction.

SUMMARY: The Office of Global Programs published a notice in the Federal Register on Monday, January 14, 2002, announcing an opportunity for FY 2002 funding for the Global Carbon Cycle program area. This notice corrects and revises the dates for submission of proposals.

FOR FURTHER INFORMATION CONTACT: Steve Auer 301-427-2089 ext. 153.

Correction

In the Federal Register issue of January 14, 2002, [Docket No. 000616180-2002-04, page 1719, second column], the date reads as follows: “Full proposals must be received at OGP no later than March 29, 2002, except for repeat hydrography proposals to be jointly considered with the National Science Foundation (NSF), which must be received no later than March 5, 2002, as noted below under SUPPLEMENTARY INFORMATION.” The sentence with the correct date should read: “Full proposals must be received at OGP no later than April 8, 2002, except for repeat hydrography proposals to be jointly considered with the National Science Foundation (NSF), which must be received no later than March 5, 2002, as noted below under SUPPLEMENTARY INFORMATION.”

David L. Evans,
Assistant Administrator, Office of Oceanic and Atmospheric Research.

[FR Doc. 02-1663 Filed 1-22-02; 8:45 am]

BILLING CODE 3510-KB-M